DEPARTMENT OF AGRICULTURE

Commodity Credit Corporation

Foreign Agricultural Service

Notice of Funding Availability: Inviting Applications for the Emerging Markets Program

SUMMARY: The Commodity Credit Corporation (CCC) announces that it is inviting proposals for the 2019 Emerging Markets Program (EMP). The EMP is administered by personnel of the Foreign Agricultural Service (FAS) on behalf of CCC. The intended effect of this notice is to solicit proposals from the private sector and from government agencies for fiscal year 2019 and to set out the criteria for the awarding of funds under the program. Future announcements of funding availability for the EMP will be made through the Grants.gov website.

DATES: To be considered for funding, proposals must be received by 5 p.m. Eastern Daylight Time, on Friday, June 8, 2018. Any proposals received after this time will be considered only if funds remain available. FAS anticipates that the initial funding selections will be made by the end of December 2018, with the initial award dates estimated to be by the end of February 2019.

FOR FURTHER INFORMATION CONTACT: Applicants needing assistance should contact the Program Operations Division, Office of Trade Programs, Foreign Agricultural Service by courier: Room 6512, 1400 Independence Ave. SW, Washington, DC 20250, or by phone: (202) 720-4327, or by fax: (202) 720-9361, or by email: podadmin@fas.usda.gov. Information is also available on the Foreign Agricultural Service website at http://www.fas.usda.gov/programs/emerging-markets-program-emp.

SUPPLEMENTARY INFORMATION:

A. Funding Opportunity Description

Announcement Type: New.

Award Instrument: Grant.

Catalog of Federal Domestic Assistance (CFDA) Number: 10.603.

Authority: The EMP is authorized by section 1542(d)(1) of the Food, Agriculture, Conservation, and Trade Act of 1990, as amended. The EMP regulations appear at 7 CFR part 1486.

Purpose. The EMP assists U.S. entities in developing, maintaining, or expanding exports of U.S. agricultural commodities and products by funding activities that enhance emerging markets' food and rural business systems, including reducing trade barriers. The EMP is intended primarily to support export market development efforts of the private sector, but EMP resources may also be used to assist public organizations.

B. Eligibility and Qualification Information

1. Eligible Organizations: Any U.S. private or government entity (e.g., universities, trade associations, agricultural cooperatives, state regional trade groups, state departments of agriculture, federal agencies, for-profit entities, and consulting businesses) with a demonstrated role or interest in the export of U.S. agricultural commodities or products may apply to the program. Proposals from research and consulting organizations will be considered if they provide evidence of substantial participation by and financial support from the U.S. industry. Foreign organizations whether government or private, may participate as third parties in activities carried out by U.S. organizations but are not eligible for direct funding assistance through the program.

2. Eligible Commodities: All U.S. agricultural commodities, except tobacco, are eligible for consideration. Agricultural product(s) should be comprised of at least 50 percent U.S. origin content by weight, exclusive of added water, to be eligible for funding. Proposals that seek support for multiple U.S. commodities are also eligible.

3. Eligible Markets. Only proposals that target countries or regional groups made up of countries classified below the World Bank's threshold for upper middle-income economies will be considered for funding. Countries classified as high income are not eligible markets under EMP. World Bank income limits and country classifications can change from year to year, with the result that a given country may qualify under the legislative and administrative criteria one year, but not the next. Therefore, applicants should consult the current World Bank country classification list for guidance. In addition, due to political sensitivities a few countries technically qualify as emerging markets but may require a separate determination before funding can be considered.

4. Eligible Activities. All EMP projects must fall into at least one of the following four categories:

(a) Assistance to teams consisting primarily of U.S. individuals expert in assessing the food and rural business systems of other countries to enable such teams to make assessments of the food and rural business systems needs of the target market. This type of EMP project must include all three of the following:

• Conduct an assessment of the food and rural business system needs of an emerging market;

• Make recommendations on measures necessary to enhance the effectiveness of those systems; and

• Identify opportunities and projects to enhance the effectiveness of the emerging market's food and rural business systems in order to grow U.S. exports.

To be eligible, such proposals must clearly demonstrate that experts are primarily agricultural consultants, farmers, other persons from the private sector, or government officials and that they have expertise in assessing the food and rural business systems of other countries.

(b) Assistance to enable individuals from emerging markets to travel to the United States so that these individuals can, for the purpose of enhancing the food and rural business systems in their countries, consult with food and rural business system experts in the United States.

(c) Assistance to enable U.S. agricultural producers and other individuals knowledgeable in agricultural and agribusiness matters to travel to emerging markets to assist in transferring their knowledge and expertise to entities in the emerging market to enhance the market's food and rural business systems in support of U.S. exports. Such travel must be to emerging markets. Travel to developed markets is not eligible under the program even if the targeted market is an emerging market.

(d) Technical assistance to implement the recommendations or to carry out projects and/or opportunities identified under 4(a) above. Technical assistance that does not implement the recommendations, projects, and/or opportunities identified under 4(a) above is not eligible under the EMP.

Proposals that do not fall into one or more of the four categories above, regardless of previous guidance provided regarding the EMP, are not eligible for consideration under the program.

5. Ineligible Activities: EMP funding may only be used for generic activities. For-profit entities may not use program funds to conduct private business, promote private self-interests, supplement the costs of normal sales activities, or promote their own products or services beyond specific uses approved by FAS in a given project. EMP funds may not be used to support normal operating costs of individual organizations, nor as a source to recover pre-award costs or prior expenses from previous or ongoing projects. Certain types of expenses are not eligible for reimbursement by the program, and there are limits on other categories of expenses, such as indirect overhead charges, travel expenses, and consulting fees. FAS will also not reimburse unreasonable expenditures or expenditures made prior to approval of a proposal. For a complete description of ineligible expenditures, please refer to the EMP regulations at 7 CFR 1486.

6. Funding Limits: This NOFA is being released prior to the EMP program being reauthorized by Congress for FY 2019. USDA makes no commitment to fund any particular application or to make a specific number of awards regardless of whether or at what level EMP program funding for FY 2019 is provided. The EMP is a relatively small program intended for focused projects with specific activities, rather than expansive concept papers that contain only broad ideas. While there is no minimum or maximum amount set for EMP-funded projects, most projects are funded at $500,000 or less and are typically approved for a duration of one year. Private entities may submit multi-year proposals requesting higher levels of funding, although funding in such cases is generally provided one year at a time with commitments beyond the first year subject to interim evaluations and funding availability. Proposals from government entities are not eligible for multi-year funding. Funding for continuing and substantially similar projects is capped at five years. After that time, the project is assumed to have proven its viability and, if necessary, should be continued by the recipient with its own or with alternative sources of funding.

7. Cost Sharing: As the EMP is intended to complement, not supplant, the efforts of the U.S. private sector, all private sector proposals must include a cost-share element from the applicant and/or U.S. partners. Cost-share may be actual cash invested or in-kind contributions to the project. While there is no minimum or maximum amount of cost-share, the degree of commitment to a proposed project, represented by the amount and type of private funding, is one factor used in determining which proposals will be approved for funding. Proposals for which private industry is willing to commit cash, rather than in-kind contributions such as staff resources, will be given priority consideration. Contributions from USDA or other government agencies or programs may not be counted as cost-share by other applicants. Similarly, contributions from foreign (non-U.S.) organizations may not be counted toward the cost-share requirement, but may be counted in the total cost of the project.

8. Other Eligibility Information: EMP funding may not be used to support the export of another country's products to the United States, or to promote the development of a foreign economy as a primary objective. Proposals should include a justification for funding assistance from the program—an explanation as to what specifically could not be accomplished without Federal funding assistance and why the participating organization(s) would be unlikely to carry out the project without such assistance. Proposals that counter national strategies or duplicate activities planned or already underway by U.S. non—profit agricultural commodity or trade associations will not be considered. Applicants may submit more than one proposal.

9. Intergovernmental Review: An intergovernmental review may be required. Applicants must contact their state's Single Point of Contact (SPOC) to comply with their state's process under Executive Order 12372 (see http://www.fws.gov/policy/library/rgeo12372.pdf). To ensure currency, the names and addresses of the SPOCs are maintained at the Office of Management and Budget's home page at http://www.whitehouse.gov/omb/grants_spoc.

C. Award Information

It is anticipated that FAS will award approximately 40 awards under the 2019 EMP, subject to programmatic approval and available funding. In general, all qualified proposals received before the application deadline will compete for EMP funding. The applicant's willingness to contribute resources towards the project, including cash, goods, and services, is an important factor in determining which proposals are funded under the EMP. Each proposal will also be judged on the potential benefits to the industry represented by the applicant and the degree to which the proposal demonstrates industry support.

Funding for successful proposals will be provided through specific agreements. Applicants approved for funding must provide annual progress reports and a final performance report to FAS. Changes in the original project timelines and adjustments within project budgets must be approved in advance by FAS. All reports will be submitted through the Unified Export Strategy system.

Once an award reaches its completion date, FAS will confirm that the participant has provided all of the required reports and will review the reports for completeness and content. Once the required reports are approved, FAS will prepare a closeout letter that advises the participant of the award closeout procedures. Closeout letters must be countersigned and returned to FAS as soon as the final claim is submitted and paid, but within 60 days of receipt. Once the closeout procedures have been completed, any remaining funding on the agreement will be deobligated.

Note: EMP funds awarded to government agencies must be expended or otherwise obligated by close of business September 30, 2019.

D. Application and Submission Information

1. Address to Submit Application Package: EMP applicants have the opportunity to utilize the Unified Export Strategy (UES) system for the application process. The UES is an online system that provides a means for interested applicants to submit a consolidated and strategically coordinated single proposal that incorporates funding requests for all of the market development programs administered by FAS.

Applicants are strongly encouraged to submit their applications to FAS through the web-based UES application. The internet-based format reduces paperwork and expedites FAS' processing and review cycle. Applicants planning to use the on-line UES system must first contact the Program Operations Division to obtain site access information. The internet-based application is located at the following URL address: https://www.fas.usda.gov/ues/webapp/.

Although FAS highly recommends applying via the UES, applicants also have the option of submitting an electronic application to FAS via email to podadmin@fas.usda.gov.

Applicants experiencing difficulty or otherwise needing assistance applying to the program should contact the Program Operations Division, Office of Trade Programs, Foreign Agricultural Service by courier: Room 6512, 1400 Independence Ave. SW, Washington, DC 20250, or by phone: (202) 720-4327, or by fax: (202) 720-9361, or by email: podadmin@fas.usda.gov.

2. Content and Form of Application Submission: To be considered for the EMP, an applicant must submit to FAS information required by this Notice of Funding Availability and the EMP regulations at 7 CFR part 1486. The EMP regulations and additional information are available at the following URL address: http://www.fas.usda.gov/programs/emerging-markets-program-emp.

Applications should be no longer than ten (10) pages and include the following information:

(a) Date of proposal;

(b) Name of organization submitting proposal;

(c) Organization address, telephone, and fax;

(d) Tax ID number;

(e) DUNS number;

(f) Primary contact person;

(g) Full title of proposal;

(h) Target market(s);

(i) Specific description of activity/activities to be undertaken;

(j) Clear demonstration that successful implementation will enhance the emerging market's food and rural business system, including, if applicable, potential reductions in trade barriers, and will benefit the industry as a whole and not just the applicant(s);

(k) Current conditions and market analysis (production, supply, demand, import competition, U.S. trade) in the target market(s) affecting the commodity or product;

(l) Description of the need to assess the food and rural business systems of the emerging market, or of the recommendations, projects, and/or opportunities previously identified by an approved EMP assessment that are to be addressed by the project;

(m) Project objectives that are focused and clearly explained and for which there is a clear and logical connection between the constraints, project objectives, activity descriptions, and expected results;

(n) Projects should include performance measures for quantifying progress and demonstrating results. In the development of performance measures, FAS believes the measures should meet the following criteria:

• Aligned: The indicator should, as closely as possible, measure exactly the relevant result.

• Clear: The indicator should be precise and unambiguous about what is being measured and how. There should be no doubt on how to measure or interpret the indicator.

• Quantifiable: The indicator(s) should sufficiently capture all of the elements of a result.

• Include an identified methodology: The data can be obtained to inform the indicator in a timely and efficient manner and the data are of high-quality.

(o) Explanation of the underlying reasons for the project proposal and its approach, the anticipated benefits, and any additional pertinent analysis;

(p) Explanation as to what specifically could not be accomplished without Federal funding assistance and why the participating organization(s) would be unlikely to carry out the project without such assistance;

(q) Timeline(s) for implementation of activity, including start and end dates;

(r) Information on whether similar activities are or have previously been funded with USDA or U.S. Government resources in the target country or countries (e.g., under the MAP, Cooperator program, or other government programs like food aid or USAID development programs and studies);

(s) Detailed line item activity budgets:

• Individual expense items (e.g., salaries, travel expenses, consultant fees, administrative costs, etc.) should be listed on separate line items, each clearly indicating:

(1) Which items are to be covered by EMP funding;

(2) Which are to be covered by the participating U.S. organization(s); and

(3) Which are to be covered by foreign third parties (if applicable);

• Cost line items for consultant fees should show the calculation of the daily rate and the number of days;

• Cost line items for travel expenses should show the number of trips and the destination, the number of travelers, cost, and objective for each trip; and

(t) Qualifications of applicant(s) should be included as an attachment.

3. Other Required Information: In accordance with the Office of Management and Budget's issuance of a final policy (68 FR 38402 (June 27, 2003)) regarding the need to identify entities that are receiving government awards, all applicants must submit a Dun and Bradstreet Data Universal Numbering System (DUNS) number. An applicant may request a DUNS number at no cost by calling the dedicated toll-free DUNS number request line at (866) 705-5711.

In addition, in accordance with 2 CFR part 25, each entity that applies to the EMP and does not qualify for an exemption under 2 CFR 25.110 must:

(i) Be registered in the System for Award Management (SAM) prior to submitting an application or plan; and

(ii) Maintain an active SAM registration with current information at all times during which it has an active Federal award or an application or plan under consideration by FAS; and

(iii) Provide its DUNS number in each application or plan it submits to FAS.

FAS may not make an award to an applicant until the applicant has complied with all applicable unique entity identifier and SAM requirements, and, if an applicant has not fully complied with the requirements by the time FAS is ready to make the award, FAS may determine that the applicant is not qualified to receive an award and use that determination as a basis for making an award to another applicant.

Similarly, in accordance with 2 CFR part 170, each entity that applies to the EMP and does not qualify for an exception under 2 CFR 170.110(b) must ensure it has the necessary processes and systems in place to comply with the applicable reporting requirements of 2 CFR part 170 should it receive EMP funding.

4. Submission Dates and Times: EMP proposals are reviewed on a rolling basis during the fiscal year as long as EMP funding is available as set forth below:

• All proposals received via the UES or email by 5 p.m. Eastern Daylight Time, on Friday, June 8, 2018, will be considered for funding with other proposals received by that date;

• Proposals not approved for funding during the initial review period will be reconsidered for funding after the review period only if the applicant specifically requests such reconsideration in writing and only if funding remains available;

• Proposals received after 5 p.m. Eastern Daylight Time, on Friday, June 8, 2018, will be considered for funding in the order received only if funding remains available.

E. Application Review Information

1. Review and Selection Process: All proposals deemed eligible for the program will undergo a multi-phase review within FAS by appropriate FAS experts and field offices to rate the qualifications, quality, and appropriateness of projects, determine the reasonableness of project budgets, and make recommendations on meritorious proposals for funding.

2. Evaluation criteria and weight: FAS will consider a number of factors when reviewing proposals, including:

• Appropriateness of the Activity (30%), which will vary based on the type of proposal but will include:

• For assessment proposals: Does the proposal present a methodology that is likely to result in the needed recommendations and identification of specific opportunities and projects? Is the assessment team comprised of credible U.S. experts with experience in assessing food and rural business systems?

• For travel proposals: Is the exchange of knowledge and expertise clearly described in terms of enhancements to the emerging market's food and rural business systems? Do we understand how travelers are selected?

• For technical assistance proposals: Are the proposed activities identified in the supporting assessment? Is the potential for the proposed activities to enhance the effectiveness of the emerging market's food and rural business systems sufficiently justified?;

• Market Impact (50%), including the degree to which the proposed project is likely to contribute to the development, maintenance, or expansion of U.S. agricultural exports to emerging markets; the conditions or constraints affecting the level of U.S. exports and market share for the agricultural commodity/product; and the demonstration of how a proposed project will benefit the industry as a whole; and

• Completeness and Viability of the proposal (20%), including evidence that the organization has the knowledge, expertise, ability, and resources to successfully implement the project, the entity's willingness to contribute resources to the project, and the applicant's reported past EMP results and evaluations, if applicable.

3. Other Review Information: FAS, prior to making a Federal award with a total amount of Federal share greater than the simplified acquisition threshold, is required to review and consider any information about the applicant that is in the designated integrity and performance system accessible through SAM (currently FAPIIS) (see 41 U.S.C. 2313). An applicant, at its option, may review information in the designated integrity and performance systems accessible through SAM and comment on any information about itself that a Federal awarding agency previously entered and is currently in the designated integrity and performance system accessible through SAM. FAS will consider any comments by the applicant, in addition to the other information in the designated integrity and performance system, in making a judgment about the applicant's integrity, business ethics, and record of performance under Federal awards when completing the review of risk posed by applicants as described in 2 CFR 200.205 “Federal awarding agency review of risk posed by applicants.”

F. Federal Award Administration Information

1. Award Notices: FAS will notify each applicant in writing of the final disposition of the submitted proposal. FAS will send an approval letter and project agreement to each approved applicant. The approval letter and agreement will specify the terms and conditions applicable to the project, including the levels of EMP funding and cost-share contribution requirements. All successful applicants for all grant and cooperative agreements are required to comply with the Standard Administrative Terms and Conditions, which are available online at: https://www.fas.usda.gov/grants/general_terms_and_conditions/default.asp. The applicable Standard Administrative Terms and Conditions will be for the last year specified at that URL, unless the application is to continue an award first awarded in an earlier year. In that event, the terms and conditions that apply will be those in effect for the year in which the award was originally made unless explicitly stated otherwise in subsequent mutually-agreed amendments to the award.

Before accepting the award the potential awardee should carefully read the award package for instructions on administering the grant award and the terms and conditions associated with responsibilities under Federal Awards. Recipients must accept all conditions in this NOFA as well as any special terms and conditions in the approval letter and program agreement to receive an award under this program.

2. Reporting. EMP participants must provide interim and final performance reports for each approved project. An interim report must be submitted after each program year, and a separate final report no later than 90 days after the activity is completed. All performance reports must be submitted through the UES. In addition, a final financial report must be submitted no later than 90 days after completion of the project. This report must provide a final accounting of all project expenditures by cost category and include the accounting of actual contributions made to the project by the applicant and all other participating entities.

G. Federal Awarding Agency Contact(s)

1. Application Submission Contact(s) and Program Support: For additional information and assistance, contact the Program Operations Division, Office of Trade Programs, Foreign Agricultural Service, U.S. Department of Agriculture by courier: Room 6512, 1400 Independence Ave. SW, Washington, DC 20250, or by phone: (202) 720-4327, or by fax: (202) 720-9361, or by email: podadmin@fas.usda.gov.

2. Grants Management Contact(s): Eric Bozoian, Grants Management Specialist, Foreign Agricultural Service, United States, Department of Agriculture, Email: Eric.Bozoian@fas.usda.gov, Office: (202) 378-1054.

Signed at Washington, DC on 26th day of April, 2018.
James Higgiston,
Acting Administrator, Foreign Agricultural Service and Acting Vice President, Commodity Credit Corporation.

[FR Doc. 2018-09866 Filed 5-8-18; 8:45 am]

BILLING CODE 3410-10-P